RAILROAD RETIREMENT BOARD

Actuarial Advisory Committee With Respect to the Railroad Retirement Account; Notice of Public Meeting

Notice is hereby given in accordance with Public Law 92-463 that the Actuarial Advisory Committee will hold a virtual meeting on May 13, 2022, at 1:00 p.m. (Central Daylight Time) on the conduct of the 2022 Annual Report Required by the Railroad Retirement Act of 1974 and the Railroad Retirement Solvency Act of 1983. The agenda for this meeting will include a discussion of the assumptions to be used in the Annual Report. A report containing recommended assumptions and the experience on which the recommendations are based will have been sent by the Chief Actuary to the Committee before the meeting.

The meeting will be open to the public. Persons wishing to submit written statements, make oral presentations, or attend the meeting should address their communications or notices to Patricia Pruitt (Patricia.Pruitt@rrb.gov) so that information on how to join the virtual meeting can be provided.

Dated: April 18, 2022.
Stephanie Hillyard,
Secretary to the Board.

[FR Doc. 2022-08542 Filed 4-20-22; 8:45 am]

BILLING CODE 7905-01-P